DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 23, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: School Meals Operations Study.

OMB Control Number: 0584-0607.

Summary of Collection: Section 28(a) of the Richard B. Russell National School Lunch Act authorizes the USDA Secretary to conduct annual national performance assessments of the school meal programs, which include the National School Lunch Program (NSLP) and School Breakfast Program (SBP). The School Meals Operations (SMO) study was originally planned to conduct this annual assessment. When the COVID-19 pandemic closed schools and disrupted NSLP and SBP operation, the SMO study collected data about the Child Nutrition (CN) Programs used to feed children during the pandemic, which included the NSLP Seamless Summer Option (SSO), Summer Food Service Program (SFSP), and Child and Adult Care Food Program (CACFP) in addition to NSLP and SBP. SMO study data correspond to school year (SY) 2019-2020 through SY 2022-2023 and help FNS answer annual research questions about (1) CN Program participation, (3) meal counting, (4) financial management, and (5) CN Program integrity.

Need and Use of the Information: As in previous study years, the respondents will be the State agencies that administer NSLP, SBP, SSO, SFSP, and CACFP in the 50 states, 3 territories, and District of Columbia. It will use the same administrative data request as previous years and an updated survey. The updated survey will collect timely data on policy, administrative, and operational issues for the CN Programs. This information collection will help FNS obtain:

1. General descriptive data on the characteristics of CN Programs to inform the budget process and answer questions about topics of current policy interest;

2. Data on CN Program operations to identify potential topics for training and technical assistance for States agencies and school food authorities responsible for administering the Programs; and

3. Administrative data to identify CN Program trends and predictors.

Description of Respondents: State, Local and Tribal Governments.

Number of Respondents: 68.

Frequency of Responses: Reporting: Once.

Total Burden Hours: 945.

Rachelle Ragland-Greene,
Departmental Information Collection Clearance Officer.

[FR Doc. 2024-18830 Filed 8-21-24; 8:45 am]

BILLING CODE 3410-30-P